DEPARTMENT OF HOMELAND SECURITY

Customs and Border Protection

Customs and Border Protection Trade Symposium 2008: “Global Trade: Continuity Through Transition”

AGENCY: Customs and Border Protection, Department of Homeland Security.

ACTION: Notice of Trade Symposium.

SUMMARY: This document announces that U.S. Customs and Border Protection (CBP) will convene its annual trade symposium, featuring panel discussions involving department personnel, members of the trade community and other government agencies, on the agency's role in international trade initiatives and programs. Members of the international trade and transportation communities and other interested parties are encouraged to attend.

DATES: Wednesday, October 29, 2008 (opening remarks and panel discussions beginning at 1 p.m. and open forum with senior management (6 p.m.-8 p.m.)). Thursday, October 30, 2008 (panel discussions—8 a.m.-5 p.m.). Friday, October 31, 2008 (panel discussions ending by 1 p.m.).

ADDRESSES: The CBP Trade Symposium will be held at the JW Marriott, 1331 Pennsylvania Avenue, NW., Washington, DC. Upon entry into the building, take elevators downstairs to the ballroom level.

FOR FURTHER INFORMATION CONTACT: The Office of International Affairs and Trade Relations at (202) 344-1440, or at traderelations@dhs.gov. To obtain the latest information on the Symposium and to register on-line, visit the CBP Web site at http://www.cbp.gov. Requests for special needs should be sent to the Office of International Affairs and Trade Relations at traderelations@dhs.gov.

SUPPLEMENTARY INFORMATION: The agenda for the Trade Symposium and the keynote speaker will be announced at a later date on the CBP Web site. The cost is $250.00 per person, and includes all Symposium activities. Interested parties are requested to register early, as space is limited. Registration will open to the public on or about September 2, 2008. All registrations must be made on-line at the CBP Web site (http://www.cbp.gov) and will be confirmed with payment by credit card only.

Consideration will be given, in a first come, first served order, based on space availability. Due to the overwhelming interest to attend the Symposium, each company is requested to limit their company's registrations to three participants, in order to afford equal representation from all members of the international trade community. If a company exceeds the limitation, any additional names submitted for registration will automatically be placed on the waiting list.

Hotel accommodations have been reserved at two hotels in downtown Washington, DC. The JW Marriott Hotel, 1331 Pennsylvania Avenue, NW., Washington, DC, has reserved a block of rooms for Wednesday through Friday, October 29-31, 2008, at the rate of U.S. $319.00 per night. Reservations must be made directly with the hotel by September 29th at 1-800-393-2503 or 202-393-2000, referencing “CBP Trade Symposium,” or on-line at http://www.marriott.com/hotels/travel/wasjw?groupCode=USGUSGA&app=resvlink&fromDate=10/29/08&toDate=11/1/08. The Hyatt Regency Washington on Capitol Hill, 400 New Jersey Avenue, NW., Washington, DC has reserved a block of rooms for Wednesday through Friday, October 29—31, 2008, at the rate of U.S. $201.00 per night. Reservations must be made directly with the hotel by September 30, 2008 at 1-800-421-1442, referencing “CBP Trade Symposium,” or on-line at https://resweb.passkey.com/Resweb.do?mode=welcome_ei_new&eventID=70111&fromResdesk=true.

Michael C. Mullen,
Assistant Commissioner, Office of International Affairs and Trade Relations.

[FR Doc. E8-19781 Filed 8-25-08; 8:45 am]

BILLING CODE 9111-14-P